ENVIRONMENTAL PROTECTION AGENCY

[OECA-2003-0144; FRL-7790-9]

Agency Information Collection Activities; Submission for OMB Review and Approval; Comment Request; NESHAP for Benzene Emissions From Coke By-Product Recovery Plants (Renewal), ICR Number 1080.11, OMB Number 2060-0185

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on August 31, 2004. Under OMB regulations, the Agency may continue to conduct or sponsor the collection of information while this submission is pending at OMB. This ICR describes the nature of the information collection and its estimated burden and cost.

DATES: Additional comments may be submitted on or before August 30, 2004.

ADDRESSES: Submit your comments, referencing docket ID number OECA-2003-0144, to (1) EPA online using EDOCKET (our preferred method), by E-mail to docket.oeca@epa.gov, or by mail to: Environmental Protection Agency, EPA Docket Center (EPA/DC), Enforcement and Compliance Docket and Information Center EPA West, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Dan Chadwick, Compliance Assessment and Media Programs Division, Office of Compliance, Mail Code 2223A, Environmental Protection Agency, 1200 Pennsylvania Avenue, NW., Washington, DC 20460; telephone number: (202) 564-7054; fax number: (202) 564-0050; E-mail address: chadwick.dan@epa.gov.

SUPPLEMENTARY INFORMATION: EPA has submitted the following ICR to OMB for review and approval according to the procedures prescribed in 5 CFR 1320.12. On November 3, 2003 (68 FR 62289), EPA sought comments on this ICR pursuant to 5 CFR 1320.8(d). EPA received no comments.

EPA has established a public docket for this ICR under Docket ID Number OECA-2003-0144, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Benzene Emissions from Coke By-Product Recovery Plants (40 CFR part 61, subpart L) (Renewal).

Abstract: Owners or operators of existing and new facilities that are furnace or foundry coke by-product recovery plants that produce benzene emissions subject to NESHAP subpart L must submit notification of and application for construction, reconstruction or modification, and notice of the anticipated date of initial and actual startup. Owners and operators of regulated facilities must also submit notifications of: performance tests; any physical or operational change which may increase the emission rate; implementation of equipment leakage requirements; notification that the requirements of 40 CFR part 61, subpart L and 40 CFR part 61, subpart V have been met; and notification of intent to elect to comply with the requirements at 40 CFR 61.243 at least 90 days before implementation. These owners and operators must also submit performance test reports and semi-annual reports. Records must be maintained of leak detection and repair logs, the design requirements of closed-vent systems and control devices, applicable valve information, design control device, plan operations and corrective action, compliance tests, reference values of monitored parameters, and monitoring results and exceedances (alternative control options). Records must also be kept of annual furnace and foundry coke production for furnace coke by-product recovery plants, monitoring data, monitoring system calibration checks, and the occurrence and duration of periods where the monitoring system is malfunctioning or inoperative. Records shall be retained for at least two years.

The use of carbon adsorbers and vapor incinerators instead of gas blanketing, the control technology on which the standards were originally based, was made optional by the 1991 revision. In 1999, certain quarterly reporting obligations were eliminated, a plan to handle benzene and removed carbon in accordance with the regulation was required for carbon adsorbers and reporting of the monitoring method chosen for each vapor incinerator was also required.

The notifications required in the applicable regulations are used to inform the Agency or delegated authority when a source becomes subject to the requirements of the regulations. The reviewing authority may then inspect the source to check if the pollution control devices are properly installed and operated and the regulations are being met. Performance test reports are needed as the Agency's record of a source's initial capability to comply with the emission standards and as a record of the operating conditions under which compliance was achieved. Compliance is achieved when emissions are routed through a closed-vent system (no detectable emissions) to a control device that achieves a 95-percent or greater destruction efficiency. The semiannual reports are used for problem identification, as a check on source operation and maintenance, and for compliance determinations. The information generated by the monitoring, recordkeeping and reporting requirements described in this ICR is used by the Agency to ensure that facilities affected by the NESHAP continue to operate the control equipment in compliance with the regulation. Adequate monitoring, recordkeeping, and reporting are necessary to ensure compliance with the applicable regulations, as required by the Clean Air Act. This information is being collected to assure compliance with 40 CFR part 61, subpart L.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 92 hours per response. Burden means the total time, effort, or financial resources expended by persons to generate, maintain, retain, or disclose or provide information to or for a federal agency. This includes the time needed to review instructions; to develop, acquire, install, and utilize technology and systems for the purposes of collecting, validating, and verifying information, processing and maintaining information, and disclosing and providing information; to train personnel to be able to respond to a collection of information; to search data sources; to complete and review the collection of information; and to transmit or otherwise disclose the information.

Respondents/Affected Entities: Existing facilities and new facilities that are furnace or foundry coke by-product recovery plants that produce benzene emissions.

Estimated Number of Respondents: 17.

Frequency of Response: Semi-annually, On occasion.

Estimated Total Annual Hour Burden: 3,138 hours.

Estimated Total Capital and Operations & Maintenance (O&M) Annual Costs: $0, which includes $0 annualized capital/startup costs, and $0 annual O&M costs.

Changes in the Estimates: There is a decrease of 3,945 hours in the total estimated burden currently identified in the OMB Inventory of Approved ICR Burdens. This decrease in burden from the most recently approved ICR reflects the exclusion of burden hours and costs relating to compliance with 40 CFR part 61, subpart Y, which was included in the burden calculations of the currently active ICR, NESHAP for Benzene Emissions from Benzene Storage Vessels and Coke By-Product Recovery Plants (40 CFR part 61, subparts L & Y), ICR Number 1080.10. The reporting obligations under subpart Y are now addressed under the Consolidated Air Rule and are subject to a different ICR. The decrease in burden under subpart L also reflects a more accurate estimate of the number of existing and new sources subject to this subpart and reflects the elimination of certain quarterly reporting requirements.

Dated: July 14, 2004.
Oscar Morales,
Director, Collection Strategies Division.

[FR Doc. 04-17304 Filed 7-28-04; 8:45 am]

BILLING CODE 6560-50-P